NATIONAL SCIENCE FOUNDATION

Proposal Review Panel for Materials Research; Notice of Meeting

In accordance with the Federal Advisory Committee Act (Pub., L. 92-463 as amended), the National Science Foundation announces the following meeting:

Name: Site visit review of the Materials Research Science and Engineering Center (MRSEC) at Yale University by the Division of Materials Research (DMR) #1203.

Dates & Times:

February 18, 2015; 7:15 p.m.-9:00 p.m.

February 19, 2015; 7:15 a.m.-8:30 p.m.

February 20, 2015; 7:15 a.m.-4:00 p.m.

Place: Yale University, New Haven, CT.

Type of Meeting: Part open.

Contact Person: Dr. Daniele Finotello, Program Director, Materials Research Science and Engineering Centers Program, Division of Materials Research, Room 1065, National Science Foundation, 4201 Wilson Boulevard, Arlington, VA 22230, Telephone (703) 292-4676.

Purpose of Meeting: To provide advice and recommendations concerning further support of the MRSEC at Yale University.

Agenda:

Wednesday, February 18, 2015

7:15 p.m.-9:00 p.m. Closed-Briefing of panel

Thursday, February 19, 2015

7:15 a.m.-4:30 p.m. Open-Review of the MRSEC

5:00 p.m.-6:45 p.m. Closed-Executive Session

6:45 p.m.-8:30 p.m. Open-Dinner

Friday, February 20, 2015

7:15 a.m.-9:50 a.m. Closed-Executive Session

9:50 a.m.-4:00 p.m. Closed-Executive Session, Draft and Review Report

Reason for Closing: The work being reviewed may include information of a proprietary or confidential nature, including technical information; financial data, such as salaries and personal information concerning individuals associated with the MRSEC. These matters are exempt under 5 U.S.C. 552 b(c), (4) and (6) of the Government in the Sunshine Act.

Dated: January 15, 2015.
Suzanne Plimpton,
Acting, Committee Management Officer.

[FR Doc. 2015-00989 Filed 1-21-15; 8:45 am]

BILLING CODE 7555-01-P